Memorandum of March 28, 2019

Extension of Deferred Enforced Departure for Liberians

Memorandum for the Secretary of State [and] the Secretary of Homeland Security

Since March 1991, certain Liberian nationals and persons without nationality who last habitually resided in Liberia (collectively, “Liberians”) have been eligible for either Temporary Protected Status (TPS) or Deferred Enforced Departure (DED), allowing them to remain in the United States despite being otherwise removable.

In a memorandum dated March 27, 2018, I determined that, although conditions in Liberia had improved and did not warrant a further extension of DED, the foreign policy interests of the United States warranted affording an orderly transition (“wind-down”) period to Liberian DED beneficiaries. At that time, I determined that a 12-month wind-down period was appropriate; that wind-down period expires on March 31, 2019.

Upon further reflection and review, I have decided that it is in the foreign policy interest of the United States to extend the wind-down period for an additional 12 months, through March 30, 2020. The overall situation in West Africa remains concerning, and Liberia is an important regional partner for the United States. The reintegration of DED beneficiaries into Liberian civil and political life will be a complex task, and an unsuccessful transition could strain United States-Liberian relations and undermine Liberia's post-civil war strides toward democracy and political stability. Further, I understand that there are efforts underway by Members of Congress to provide relief for the small population of Liberian DED beneficiaries who remain in the United States. Extending the wind-down period will preserve the status quo while the Congress considers remedial legislation.

The relationship between the United States and Liberia is unique. Former African-American slaves were among those who founded the modern state of Liberia in 1847. Since that time, the United States has sought to honor, through a strong bilateral diplomatic partnership, the sacrifices of individuals who were determined to build a modern democracy in Africa with representative political institutions similar to those of the United States.

Pursuant to my constitutional authority to conduct the foreign relations of the United States, I hereby direct the Secretary of Homeland Security to take appropriate measures to accomplish the following:

(1) The termination of DED for all Liberian beneficiaries effective March 31, 2020;

(2) A continuation of the wind-down period through March 30, 2020, during which current Liberian DED beneficiaries who satisfy the description below may remain in the United States; and

(3) As part of that wind-down, continued authorization for employment through March 30, 2020, for current Liberian DED beneficiaries who satisfy the description below.

The 12-month wind-down period and 12-month continued authorization for employment shall apply to any current Liberian DED beneficiary who has continuously resided in the United States since October 1, 2002, but shall not apply to Liberians in the following categories:

(1) Individuals who are ineligible for TPS for reasons set forth in section 244(c)(2)(B) of the Immigration and Nationality Act (8 U.S.C. 1254a(c)(2)(B));

(2) Individuals whose removal the Secretary of Homeland Security determines to be in the interest of the United States;

(3) Individuals whose presence or activities in the United States the Secretary of State has reasonable grounds to believe would have potentially serious adverse foreign policy consequences for the United States;

(4) Individuals who have voluntarily returned to Liberia or their country of last habitual residence outside the United States;

(5) Individuals who were deported, excluded, or removed before the date of this memorandum; or

(6) Individuals who are subject to extradition.

The Secretary of Homeland Security is authorized and directed to publish this memorandum in the Federal Register.

THE WHITE HOUSE,

Washington, March 28, 2019

[FR Doc. 2019-06556

Filed 4-1-19; 11:15 am]

Billing code 4410-10-P